DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: South Pacific Tuna Act.

Form Number(s): None.

OMB Approval Number: 0648-0218.

Type of Request: Regular submission.

Burden Hours: 199.

Number of Respondents: 22.

Average Hours Per Response License application, 15 minute; regional application/VMS registration, 45 minutes; purse seine transshipment logsheet, 1 hour; and unloading logsheet, 30 minutes.

Needs and Uses: The National Oceanic and Atmospheric Administration collects license, registration, catch, and unloading information from purse seine vessels fishing within a large region of the central and western Pacific Ocean governed by the Treaty of Fisheries between the governments of Certain Pacific Island States and the government of the United States of America. The information collected is required to meet obligations under the Treaty.

Affected Public: Business or other for-profit organizations.

Frequency: Annually and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, Fax number (202) 395-7285, or David_Rostker@omb.eop.gov.

Dated: October 19, 2007.
Gwellnar Banks,
Management Analyst, Office of the Chief Information Officer.

[FR Doc. E7-20986 Filed 10-24-07; 8:45 am]

BILLING CODE 3510-22-P